DEPARTMENT OF HEALTH AND HUMAN SERVICES

Centers for Disease Control and Prevention

[30Day-13-12EX]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Formative Research for the Development of CDC's Act Against AIDS Social Marketing Campaigns Targeting Consumers—New—National Center for HIV/AIDS, Viral Hepatitis, STD, and TB Prevention (NCHHSTP), Centers for Disease Control and Prevention (CDC).

Background and Brief Description

The purpose of this study is to conduct interviews and focus groups in four rounds of data collections (exploratory research, message testing, concept testing, materials testing) with consumer groups aged 18 to 64 over a 3-year period to develop various social marketing campaigns aimed at increasing HIV testing rates, increasing HIV awareness and knowledge, challenging commonly held misperceptions about HIV, and promoting HIV prevention and risk reduction.

The research results will be used to develop materials for six specific HIV social marketing campaigns under the umbrella of the larger Act Against AIDS campaign. The campaigns will target consumers aged 18-64. Some campaigns will target the general public as a whole and other campaigns will focus on specific subpopulations at greatest risk for HIV infection. The target audiences will include Latinos, men who have sex with men (MSM), HIV-positive individuals and African Americans.

The study will screen 2338 people per year for eligibility. Of the 2,338 people screened, it is expected that 500 people will participate in focus groups, 500 people will participate in in-depth interviews and 700 will participate in intercept interviews. All focus group and in-depth interview participants (total 1000) will complete a brief paper and pencil survey.

There are no costs to the respondents other than their time.

The total estimated annual burden hours are 2,311.

Estimated Annualized Burden Hours
Respondents | Form name | Number of respondents | Number of responses per respondent | Average burden per response (in Hours)
Individuals (males and females) aged 18-64 | Screening Instrument In-depth interview focus group and intercept interview | 2338 | 1 | 2/60
| Exploratory—HIV Testing In-depth Interview Guide | 74 | 1 | 1
| Exploratory—HIV Prevention In-depth Interview Guide | 74 | 1 | 1
| Exploratory—HIV Communication and Awareness In-depth Interview Guide | 74 | 1 | 1
| Exploratory—HIV Prevention with Positives In-depth Interview Guide | 74 | 1 | 1
| Consumer Message Testing In-depth Interview Guide | 68 | 1 | 1
| Consumer Concept Testing In-depth Interview Guide | 68 | 1 | 1
| Consumer Materials Testing In-depth Interview Guide | 68 | 1 | 1
| Exploratory—HIV Testing Focus Group Interview Guide | 74 | 1 | 2
| Exploratory—HIV Prevention Focus Group Interview Guide | 74 | 1 | 2
| Exploratory—HIV Communication and Awareness Focus Group Interview Guide | 74 | 1 | 2
| Exploratory—IV Prevention with Positives Focus Group Interview Guide | 74 | 1 | 2
| Consumer Concept Testing Focus Group Interview Guide | 68 | 1 | 2
| Consumer Message Testing Focus Group Interview Guide | 68 | 1 | 2
| Consumer Materials Testing Focus Group Interview Guide | 68 | 1 | 2
| Paper and Pencil—HIV Testing Survey | 250 | 1 | 30/60
| Paper and Pencil—HIV Prevention Survey | 250 | 1 | 30/60
| Paper and Pencil—HIV Communication and Awareness Survey | 250 | 1 | 30/60
| Paper and Pencil—HIV Prevention with Positives Survey | 250 | 1 | 30/60
| Intercept Interview Guide | 700 | 1 | 20/60

Dated: February 28, 2013.
Ron A. Otten,
Director, Office of Scientific Integrity (OSI), Office of the Associate Director for Science (OADS), Office of the Director, Centers for Disease Control and Prevention.

[FR Doc. 2013-05233 Filed 3-5-13; 8:45 am]

BILLING CODE 4163-18-P